DEPARTMENT OF DEFENSE

Office of the Secretary

[Transmittal Nos. 13-46]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-46 with attached transmittal, and policy justification.

Dated: January 14, 2014.
Aaron Siegel,
Alternate OSD Federal Register Liaison Officer, Department of Defense.

Transmittal No. 13-46

Notice of Proposed Issuance of Letter of Offer Pursuant to Section 36(b)(1) of the Arms Export Control Act

(i) Prospective Purchaser: United Arab Emirates

(ii) Total Estimated Value:

Major Defense Equipment * | $0 million.
Other | $150 million.
TOTAL | $150 million.

(iii) Description and Quantity or Quantities of Articles or Services under Consideration for Purchase: Follow on United States Marine Corps blanket order training, training support, and other related elements of program support for the United Arab Emirates Presidential Guard Command.

(iv) Military Department: Navy (TAM, A2)

(v) Prior Related Cases, if any:

FMS case TAM-$1.5M-14Apr11

FMS case TAM(A1)-$42.4M-12Oct11

(vi) Sales Commission, Fee, etc., Paid, Offered, or Agreed to be Paid: None

(vii) Sensitivity of Technology Contained in the Defense Article or Defense Services Proposed to be Sold: None

(viii) Date Report Delivered to Congress: 8 Jan 14

* as defined in Section 47(6) of the Arms Export Control Act.

POLICY JUSTIFICATION

United Arab Emirates (UAE)—Blanket Order Training

The Government of the United Arab Emirates has requested a possible sale for follow on United States Marine Corps blanket order training, training support, and other related elements of program support for the United Arab Emirates Presidential Guard Command. The estimated cost is $150 million.

This proposed sale will contribute to the foreign policy and national security of the United States by helping to improve the security of a friendly country that has been and continues to be an important force for political stability and economic progress in the Middle East. The UAE continues host-nation support of vital U.S. forces stationed at Al Dhafra Air Base and plays a vital role in supporting U.S. regional interests.

The proposed sale will provide the continuation of U.S. Marine Corps training of the UAE's Presidential Guard for counterterrorism, counter-piracy, critical infrastructure protection, and national defense. The training also provides engagement opportunities through military exercises, training, and common equipment. The Presidential Guard currently uses these skills alongside U.S. forces, particularly in Afghanistan.

The proposed sale of this training will not alter the basic military balance in the region.

There will be no principal contractors associated with this proposed sale. There are no known offset agreements proposed in connection with this potential sale.

Implementation of this proposed sale will not require the permanent assignment of any U.S. Government or contractor representatives to the UAE. Training teams will travel to the country on a temporary basis.

There will be no adverse impact on U.S. defense readiness as a result of this proposed sale.

[FR Doc. 2014-00853 Filed 1-16-14; 8:45 am]

BILLING CODE 5001-06-P